DEPARTMENT OF COMMERCE

International Trade Administration

A-489-501

Welded Carbon Steel Pipe and Tube from Turkey: Notice of Intent to Rescind Antidumping Duty Administrative Review, In Part

AGENCY: Import Administration, International Trade Administration, Department of Commerce.

SUMMARY: On July 1, 2008, we published the notice of initiation of this antidumping duty administrative review with respect to the Borusan Group (and affiliates, Borusan Mannesmann, Boru Sanayi ve Ticaret A.S. and Borusan Istikbal Ticaret T.A.S.) and Toscelik Profil ve Sac Endustrisi A.S. (“Toscelik”). See Initiation of Antidumping and Countervailing Duty Administrative Reviews and Request for Revocation in Part, 73 FR 37409 (July 1, 2008). We have preliminarily determined that the review of Toscelik should be rescinded.

EFFECTIVE DATE: October 10, 2008.

FOR FURTHER INFORMATION CONTACT: Jolanta Lawska or Christopher Hargett, AD/CVD Operations, Office 3, Import Administration, International Trade Administration, U.S. Department of Commerce, 14th Street and Constitution Avenue, NW, Washington, DC 20230; telephone: (202) 480-8362 or (202) 482-4161, respectively.

SUPPLEMENTARY INFORMATION:

Background

On May 5, 2008, the Department of Commerce (“the Department”) published in the Federal Register the notice of the “Opportunity to Request Administrative Review” of the antidumping duty order on welded carbon steel pipe and tube from Turkey, for the period May 1, 2007, through April 30, 2008 (73 FR 24532). On May 30, 2008, we received a request from the petitioner¹ to review Toscelik. On July 1, 2008, we published the notice of initiation of this antidumping duty administrative review with respect to Toscelik. See Initiation of Antidumping and Countervailing Duty Administrative Reviews and Request for Revocation in Part, 73 FR 37409 (July 1, 208). On July 8, 2008, Toscelik submitted a letter certifying that it did not, directly or indirectly, export or sell for consumption in the United States any subject merchandise during the period of review (“POR”).

¹ The petitioner is Allied Tube and Conduit.

Scope of the Order

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.

Intent to Rescind the 2007-2008 Administrative Review, in Part

Toscelik submitted a letter on July 8, 2008, certifying that it did not, directly or indirectly, export or sell for consumption in the United States any subject merchandise during the POR. The petitioner did not comment on Toscelik’s no-shipment claim.

We conducted an internal customs data query on July 23, 2008. See September 29, 2005, Memorandum to The File through James Terpstra, Program Manager, entitled “Internal Customs Data Query.” The data query indicated Toscelik had no entries, exports, or sales to the United States of subject merchandise during the POR.

Based on our analysis of the shipment data, Toscelik is a non-shipper for this review. Therefore, in accordance with 19 CFR 351.213(d)(3), and consistent with our practice, we preliminarily determine to rescind this review. See e.g., Stainless Steel Bar from India; Preliminary Results of Antidumping Duty Administrative Review and New Shipper Review, and Partial Rescission of Administrative Review, 65 FR 12209 (March 8, 2000); Persulfates From the People’s Republic of China; Preliminary Results of Antidumping Duty Administrative Review and Partial Rescission of Administrative Review, 65 FR 18963 (April 10, 2000).

Public Comment

An interested party may request a hearing within 30 days of publication of this preliminary notice. See 19 CFR 351.310(c). Any hearing, if requested, will be held 44 days after the date of publication of this preliminary notice, or the first working day thereafter. Interested parties may submit case briefs no later than 30 days after the date of publication of this preliminary notice. See 19 CFR 351.309(c)(ii). Rebuttal briefs, limited to issues raised in such briefs, may be filed no later than five days after the time limit for filing the case brief 19 CFR 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this preliminary notice.

This notice is issued and published in accordance with sections 751(a)(1) and 777(i)(1) of the Act and 19 CFR 351.213(d).

Dated: October 01, 1008.
Stephen J. Claeys,
Deputy Assistant Secretary for Import Administration.

[FR Doc. E8-24204 Filed 10-9-08; 8:45 am]

BILLING CODE 3510-DS-S